OVERSEAS PRIVATE INVESTMENT CORPORATION

Sunshine Act; Meeting

Time and Date: Thursday, January 31, 2002, 1:00 PM (Open Portion) 1:30 PM (Closed Portion).

Place: Offices of the Corporation, Twelfth Floor Board Room, 1100 New York Avenue, NW., Washington, DC

Status: Meeting Open to the Public from 1 p.m. to 1:30 p.m. closed portion will commence at 1:30 p.m. (approx.).

Matters to be Considered:

1. President's Report

2. Appointment: Daniel A. Nichols

3. Meeting Schedule Through September 2002

Further Matters to be Considered: (Closed to the Public 1:30 PM)

1. Finance Project in Indonesia

2. Finance Project in Pakistan

3. Pending Major Projects

4. Reports

Contact Person for Information: Information on the meeting may be obtained from Connie M. Downs at (202) 336-8438.

Dated: January 17, 2002.
Connie M. Downs,
OPIC Corporate Secretary.

[FR Doc. 02-1677 Filed 1-17-02; 4:02 pm]

BILLING CODE 3210-01-M